DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with July anniversary dates. In accordance with Commerce's regulations, we are initiating those administrative reviews.

DATES: Applicable September 10, 2018.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with July anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than July 31, 2019.

| Period to be reviewed
Antidumping Duty Proceedings
INDIA: Corrosion-Resistant Steel Products, A-533-863 | 7/1/17-6/30/18
Atlantis International Services Company Ltd
JSW Coated Products Limited
JSW Steel Ltd
Uttam Galva Steels, Netherlands, B.V.
Uttam Galva Steels (BVI) Limited
Uttam Galva Steels Limited
Uttam Value Steels Limited
INDIA: Polyethylene Terephthalate (Pet) Film, Sheet and Strip, A-533-824 | 7/1/17-6/30/18
Ester Industries Limited
Garware Polyester Ltd.
Jindal Poly Films Ltd (India)
MTZ Polyesters Ltd.
Polyplex Corporation Ltd.
SRF Limited of India
Uflex Ltd.
Vacmet India Limited
ITALY: Carbon and Alloy Steel Cut-To-Length Plate,⁴ A-475-834 | 11/14/16-4/30/18
Evraz Palini e Bertoli SpA
ITALY: Certain Pasta, A-475-818 | 7/1/17-6/30/18
Agritalia S.r.L.
Francesco Tamma S.p.A.
Ghigi Industria Agroalimentare in San Clemente S.r.L.
Ghigi 1870 S.p.A.
Industria Alimentare Colavita S.p.A.
La Molisana S.p.A.
Pasta Zara S.p.A.
Tesa SrL
MALAYSIA: Certain Steel Nails, A-557-816 | 7/1/17-6/30/18
Astrotech Steels Private Limited
Caribbean International Co Ltd.
Chia Pao Metal Co., Ltd.
Inmax Industries Sdn. Bhd.
Inmax Sdn. Bhd.
Jinhai Hardware Co. Ltd.
Region System Sdn. Bhd.
Region International Co. Ltd.
Tag Fasteners Sdn. Bhd.
OMAN: Certain Steel Nails, A-523-808 | 7/1/17-6/30/18
Al Kiyumi Global LLC
Astrotech Steels Private Ltd.
Geekay Wires Limited
Oman Fasteners LLC
REPUBLIC OF KOREA: Certain Steel Nails, A-580-874 | 7/1/17-6/30/18
Ahri International
Aironware Enterprise (China) Ltd.
Ansing Fasteners Co., Ltd.
Ansing Rich Tech & Trade Co. Ltd.
Astrotech Steels Private Limited
Baoding Jieboshun Trading Corp. Ltd.
Beijing Catic Industry Ltd.
Beijing Jin Heung Co. Ltd.
Beijing Qin Li Jeff Trading Co., Ltd.
Bestbond International Limited
Bipex Co., Ltd.
Bolung International Trading Co., Ltd.
Cana (Rizhao) Hardware Co. Ltd.
Canaxy Asia Inc.
Cangzhou Nandagang Guotai Hardware Products Co., Ltd.
Caribbean International Co. Ltd.
China Dinghao Co., Ltd.
China Staple Enterprise Co. Ltd.
Chinatrans International Ltd.
Chongqing Welluck Trading Co. Ltd.
CKX Co. Ltd.
Crelux International Co. Ltd.
Daejin Steel Co., Ltd.
Daejin Co., Ltd.
Dezhou Hualude Hardware Products Co., Ltd.
Dong E Fuqiang Metal Products Co. Ltd.
Dong Yang Diecasting Co., Ltd.
Duo-Fast Korea Co., Ltd.⁵
ECI Taiwan Co., Ltd.
Eco Steel Co., Ltd.
Eco-Friendly Floor Ltd.
Ejem Brothers Limited
England Rich Group (China) Ltd.
Expeditors Korea Ltd.
Faithful Engineering Products Co. Ltd.
Fastgrow International Co.
General Merchandise Consolidators Inc.
Glovis America
Guangdong Meite Mechanical Co., Ltd.
Guangdong TC Meite Intelligent Tool Co., Ltd.
Hanmi Staple Co., Ltd.
Hanon Systems
Hebei Minmetals Co., Ltd.
Hebei Cangzhou New Century Foreign Trade Co., Ltd.
Hebei Tinlin Metal Products Co., Ltd.
Heilongjiang Linke Wooden Products Co., Ltd.
Hebei Tuohua Metal Products Co., Ltd.
Hengtuo Metal Products Co Ltd
Hi-Sharp Industrial Co., Ltd.
Hong Kong Hong Xing Da Trading Co. Ltd.
Hongyi Hardware Products Co., Ltd.
Huanghua Yingjin Hardware Products Co., Ltd.
Inmax Industries Sdn. Bhd.
Inmax Sdn. Bhd.
Integral Building Products Inc.
Je-il Wire Production Co., Ltd.
Jeil Tacker Co. Ltd.
Je-Il Wire Production Co., Ltd.
Jiaxing Slk Import & Export Co., Ltd.
Jinhai Hardware Co., Ltd.
Jinheung Steel Corporation ⁶
Jinkaiyi International Industry Co.
Jinsco International Corp.⁷
Konad Co., Ltd.
Koram Inc.
Koram Steel Co., Ltd.
Korea Wire Co., Ltd.
Kuehne Nagel Ltd.
Leling Taishan Artificial Turf Industry
Liaocheng Minghui Hardware Products
Linyi Flying Arrow Imp. & Exp. Ltd.
Max Co., Ltd.
Mingguang Ruifeng Hardware Products Co., Ltd.
Nailtech Co. Ltd.
Nanjing Caiqing Hardware Co., Ltd.
Neo Gls
Nexen Corporation
Nexen L&C Corp.
OEC World Wide Korea Co. Ltd.
Oman Fasteners LLC
Overseas Distribution Services Inc.
Overseas International Steel Industry
Pantainer (H.K.) Limited
Peace Industries, Ltd.
Promising Way (Hong Kong) Limited
Qingdao Cheshire Trading Co. Ltd.
Qingdao D&L Group Ltd.
Qingdao Hongyuan Nail Industry Co. Ltd.
Qingdao JCD Machinery Co., Ltd.
Qingdao Jisco Co., Ltd.
Qingdao Master Metal Products Co. Ltd.
Qingdao Meijialucky Industry and Commerce Co., Ltd.
Qingdao Mst Industry and Commerce Co., Ltd.
Qingdao Rainbow Bird Metal Products Co., Ltd.
Qingdao Top Steel Industrial Co., Ltd.
Qingdao Tiger Hardware Co., Ltd.
Rise Time Industrial Co. Ltd.
Sam Un Co. Ltd.
SDC International AUST. PTY Ltd.
Shandong Dinglong Imp. & Exp. Co. Ltd.
Shandong Liaocheng Minghua Metal PR
Shandong Oriental Cherry Hardware Import & Export Co., Ltd.
Shandong Oriental Cherry Hardware Group Co. Ltd.
Shandong Qingyun Hongyi Hardware Products Co., Ltd.
Shanghai Haoray International Trade Co. Ltd.
Shanghai Lucky Angle Handicraft & Gift Co., Ltd.
Shanghai Jade Shuttle Hardware Tools Co., Ltd.
Shanghai Pinnacle International Trading Co., Ltd.
Shanghai Zoonlion Industrial Co., Ltd.
Shanxi Fasteners & Hardware Products Co., Ltd.
Shanxi Hairui Trade Co., Ltd.
Shanxi Pioneer Hardware Industry Co., Ltd.
Shanxi Tianli Industries Co., Ltd.
Sherilee
Shijiazhuang Shuangjian Tools Co. Ltd.
Shijiazhuang Tops Hardware Manufacturing Co., Ltd.
S-Mart (Tianjin) Technology Development Co., Ltd.
Smile Industries Ltd.
Speedmark International Ltd.
Suntec Industries Co., Ltd.
T.H.I. Group Ltd.
The Stanley Works (Langfang) Fastening System Co., Ltd.
Tianjin Bluekin Industries Limited
Tianjin Coways Metal Products Co.
Tianjin Consol International Co., Ltd.
Tianjin Fulida Supply Co. Ltd.
Tianjin Huixinshangmao Co. Ltd.
Tianjin Hweschun Fasteners Manufacturing Co. Ltd.
Tianjin Jinchi Metal Products Co., Ltd.
Tianjin Jinzhuang Hardware Factory
Tianjin Long Sheng Tai
Tianjin Lianda Group Co., Ltd.
Tianjin Liweitian Metal Technology
Tianjin M&C Electronics Co., Ltd.
Tianjin Universal Machinery Imp. & Exp.
Tianjin Zehui Hardware Co. Ltd.
Tianjin Zhonglian Metals Ware Co. Ltd.
Tianjin Zhonglian Times Technology
Toyo Boeki Co. Ltd.
Trim International Inc.
Unicorn (Tianjin) Fasteners Co., Ltd.
W&K Corporation Limited
Weifang Wenhe Pneumatic Tools Co., Ltd.
Wire Products Manufacturing Co., Ltd.
Wulian Zhanpeng Metals Co., Ltd.
Xi'an Metals and Minerals Imp. Exp. Co., Ltd.
Xinjiayuan International Trade Co.
Xuzhou CIP International Group Co., Ltd.
Xinjiayuan Trading Co., Limited
Youngwoo Fasteners Co., Ltd.
Youngwoo (Cangzhoue) Fasteners Co., Ltd.
You-One Fastening Systems
Yumark Enterprises Corp.
Zhaoqing Harvest Nails Co. Ltd.
REPUBLIC OF KOREA: Certain Corrosion-Resistant Steel Products, A-580-878 | 7/1/17-6/30/18
Anjeon Tech Co., Ltd.
Benion Corp.
Dongbu Steel, Co., Ltd.
Dongbu Incheon Steel Co., Ltd.
Dongkuk Steel Mill Co., Ltd.
GS Global Corp.
Hyosung Corporation
Hyundai Steel Company
Kima Steel Corporation Ltd.
Mitsubishi Corp. (Korea) Ltd.
POSCO
POSCO Coated & Color Steel Co., Ltd.
POSCO Daewoo Corporation
Samsung C & T Corporation
SeAH Coated Metal Corporation
Young Steel Co., Ltd.
SOCIALIST REPUBLIC OF VIETNAM: Certain Steel Nails, A-552-818 | 7/1/17-6/30/18
Airlift Trans Oceanic PVT LTD.
CS Song Thuy
Jinhai Hardware Co., Ltd.
Le Phuong Trading Import Export
Long Nguyen Trading & Service Co., Ltd.
Orient Express Container Co., Ltd.
Region Industries Co., Ltd.
Rich State Inc.
Sam Hwan Vina Co., Ltd.
Thai Bao Im-Ex Corporation Company
Truong Vinh Ltd.
United Nail Products Co. Ltd.
TAIWAN: Certain Steel Nails, A-583-854 | 7/1/17-6/30/18
All Precision Co., Ltd.
Aplus Pneumatic Corp.
Astrotech Steels Private Ltd.
Basso Industry Corporation
Bonuts Hardware Logistic Co.
Chen Yu-Lan
Challenge Industrial Co., Ltd.
Cheng Ch International Co. Ltd.
Chia Pao Metal Co. Ltd.
Chite Enterprises Co., Ltd.
Concord Int's Engineer Ing & Trading
Crown Run Industrial Corp.
Daejin Steel Company Ltd.
Dragon Iron Factory Co., Ltd.
Easylink Industrial Co., Ltd.
ECI Taiwan Co., Ltd.
Encore Green Co., Ltd.
Faithful Engineering Products Co. Ltd.
Fastenal Asia Pacific Ltd.
Four Winds Corporation
Fujian Xinhong Mech. & Elec. Co., Ltd.
Fuzhou Royal Floor Co., Ltd.
Fuzhou Top Golden Import & Export Co.
General Merchandise Consolidators
Ginfa World Co. Ltd.
Gloex Company
Home Value Co., Ltd.
Hi-Sharp Industrial Corp. Ltd.
Hor Liang Industrial Corp.
Hyup Sung Indonesia
Inmax Industries Sdn. Bhd.
Inmax Sdn. Bhd.
Interactive Corp.
J C Grand Corporation
Jet Crown International Co., Ltd.
Jade Shuttle Enterprise Co., Ltd.
Jia Jue Industry Co. Ltd.
Jinhai Hardware Co., Ltd.
Jinsco International Corp.
Korea Wire Co., Ltd.
Liang Chyuan Industrial Co., Ltd.
Locksure Inc.
Lu Kang Hand Tools Industrial Co., Ltd.
Linkwell Industry Co., Ltd.
Master United Corp.
Nailermate Enterprise Corporation
Newrex Screw Corporation
NS International Ltd.
Noble Shipping Pvt. Ltd.
Pacific Concord Internaional Ltd.
Panther T&H Industry Co.
Patek Tool Co., Ltd.
Point Edge Corp.
President Industrial Inc.
Pronto Great China Corp.
Pro-Team Coil Nail Enterprise Inc.
PT Enterprise Inc.
Romp Coil Nail Industries Inc.
Region Industries Co., Ltd.
Region System Sdn. Bhd.
Region International Co. Ltd.
Star World Product and Trading Co., Ltd.
Shanxi Pioneer Hardware Industrial Co., Ltd.
Shinn Chuen Corp.
Six-2 Fastener Imports Inc.
Taiwan Wakisangyo Co. Ltd.
Taiwan Shan Yin Int'l Co. Ltd.
Techart Mechinal Corporation
Test-Rite Int'l Co., Ltd.
Trans-Top Enterprise Co., Ltd.
Transworld Transporation Co., Ltd.
Trim International Inc.
Tsi-Translink (Taiwan) Co. Ltd.
U-Can-Do Hardware Corp.
UJL Industries Co., Ltd.
Unicatch Industrial Co. Ltd.
Universal Power Shipping Ltd.
Vanguard International Co., Ltd.
VIM International Enterprise Co., Ltd.
Vision Exporters
Wictory Co. Ltd.
Wattson Fastner Group Inc.
Wumax Industry Co., Ltd.
Yeh Fong Hsin
Yehdyi Enterprise Co., Ltd.
Yu Tai World Co., Ltd.
TAIWAN: Certain Corrosion-Resistant Steel Products, A-583-856 | 7/1/17-6/30/18
Properity Tieh Enterprise Co., Ltd.
Sheng Yu Steel Co., Ltd.
Synn Industrial Co., Ltd.
Yieh Phui Enterprise Co., Ltd.
TAIWAN: Polyethylene Terephthalate (Pet) Film Film, Sheet and Strip, A-583-837 | 7/1/17-6/30/18
Nan Ya Plastics Corporation
Shinkong Materials Technology Corporation
THE PEOPLE'S REPUBLIC OF CHINA: Carbon Steel Butt-Weld Pipe Fittings, A-570-814 | 7/1/17-6/30/18
Jinan Mech Piping Technology Co., Ltd.
Pantech Steel Industries SDN BHD
THE PEOPLE'S REPUBLIC OF CHINA: Circular Welded Carbon Quality Steel Pipe, A-570-910 | 7/1/17-6/30/18
A&T Industry Co., Ltd.
Allied Transport System Inc.
AM Global Shipping Lines
Ample Star Enterprises
Apex Maritime (Tianjin) Co., Ltd.
Artson Fuzhou Co., Ltd.
Baoshan Iron & Steel Co., Ltd.
Bazhou Dongsheng Hot-Dipped Galvanzied Steel Pipe Co., Ltd.
Bazhou Zhuofa Steel Pipe Co. Ltd.
Beijing Bell Plumbing Manufacturing Ltd
Beijing Jia Mei Ao Trade Co., Ltd.
Beijing Jia Mei Ao Trade Limited
Beijing Jinghua Shunqi Trading Co., Ltd.
Beijing Jinghua Global Trading Co.
Beijing Kaishengao Import & Export
Beijing Kang Jie Kong International Cargo Agent Co., Ltd.
Beijing Sai Lin Ke Hardware Co., Ltd.
Beijing Zhongxingtong Technology Company Limted
Benxi Northern Steel Pipes, Co. Ltd.
Benxi Northern Pipes Co., Ltd.
Bestar Steel Co., Ltd.
Boyu M/E Company Limited
Cangzhou Huasheng Modern Casting Company Limited
Chaoteng Group Ltd.
CI Consolidators Services Limited
CNOOC Kingland Pipeline Co., Ltd.
Dalian Brollo Steel Tubes Ltd.
Dalian Shipbuilding Import Export Company
DSC Quanzhou Dongshan Machine Co., Ltd
ETCO (China) International Trading Co., Ltd.
Etco International Trading Co., Ltd.
Feel Light Co., Ltd.
Giant-Move Equipment Co., Ltd.
Guangdong Walsall Steel Pipe Industrial Co., Ltd.
Guangzhou Juyi Steel Pipe Co., Ltd.
Hainan Standard Stone Company Ltd.
Hangzhou Chaoteng International
Hangzhou Shunlan Trading Company Limited
Hebei Machinery Import & Export Co., Ltd.
Hebei Metals & Engineering Products Co., Ltd.
Hefei Ziking Steel Pipe Co., Ltd.
Hengshui Jinghua Steel Pipe Co., Ltd.
Hengyang Valin Steel Tube Group Trading Co. Ltd.
Herede Engineering Ltd.
Hubei Xin Yegang Special Tube Co.
Hulado City Steel Pipe Industrial Co., Ltd.
Huludao City Steel Pipe Industrial
Hunan Henyang Steel Tube (Group) Co., Ltd.
Jiangsu Changbao Steel Tube Co., Ltd.
Jiangsu Hen-Yuan Garden Supplies Company Ltd.
Jiangsu Yulong Steel Pipe Co., Ltd.
Jiangsu Zhongheng Dyeing & Finishing Co., Ltd.
Jiangyin Jianye Metal Products Co., Ltd.
Jinan Meide Casting Co. Ltd.
Jinan Meide Piping Technology Company Ltd.
Jiangsu Guoqiang Zinc-Plating Industrial Company, Ltd.
Kun Shan Sandia Special Steel Pipe Co., Ltd.
Kunshan City Yuan Han Electronic Co., Ltd.
Kunshan Lets Win Steel Machinery Co., Ltd.
Kunshan Taiheiyo Precision Machinery Co., Ltd.
LF Logistics (China) Co., Ltd.
Lianji Chemical Industry Co Limted
Liaoning Northern Steel Pipe Co., Ltd.
Longyou Yilaida Electric Appliance Co., Ltd.
Myriad Treasure Trading Co., Ltd
Nb Bedding & Living Company Limited
Ningbo Acei Screw Plug Inc.
Ningbo Haishu Jiayong Xingyo Import & Export Co., Ltd.
Ningbo Sunny Foreign Trade Co., Ltd.
Orient Express Container Co., Ltd.
Pacific Star Express Corporation
Pangang Chengdu Group Iron & Steel Co., Ltd.
Panyu Chu Kong Steel Pipe Co., Ltd.
Pudong Prime International Company Limited
Qingdao Ocean Master Steel & Plastic Co., Ltd.
Qingdao Xiangxing Steel Pipe Co., Ltd.
Qingdao Yongjie Import & Export Co., Ltd.
Ritime Group Inc.
Rizhao Xingye Import & Export Co., Ltd.
Rogers Corporation
Shandong Liancheng Auto Parts Company
Shandong Xinyuan Group Co., Ltd.
Shanghai Freeland International Trading Co. Ltd.
Shanghai Golden Bridge Int'l Logistic Co., Ltd.
Shanghai ITPC Import & Export Co. Ltd
Shanghai Metals & Minerals Import & Export Corporation
Shanghai Pudong International Transporation
Shanghai Wor-Biz Trading Co., Ltd.
Shanghai Zhongyou TIPO Steel Pipe Co., Ltd.
Shaoxing Xinyue Trade Co., Ltd.
Shenyang Boyu M/E Co., Ltd.
Shenyang Machinery Import & Export Co., Ltd.
Shijiazhuang Zhongqing Imp & Exp Co., Ltd.
Sichuan Y&J Industries Company Limited
Spat Steel International Hong Kong Limited
Suzhou Hongsheng Lighting Products Co. Ltd
Tangshan Fengnan District Xinlida Steel Pipe Co., Ltd.
The Huludao Steel Tube Industry Co., Ltd.
Tianjin Baolai Int'l Trade Co., Ltd.
Tianjin Haoyou Industry Trade Co., Ltd.
Tianjin Hongshengxiang Paper Company
Tianjin Lifengyuanda Steel Group Co. Ltd.
Tianjin Lituo Steel Products Co., Ltd.
Tianjin Longshenghua Import & Export
Tianjin No. 1 Steel Rolled Co., Ltd.
Tianjin Pipe International Economic & Trading Corporation
Tianjin Ruitong Steel Co., Ltd.
Tianjin Shenzhoutong Steel Pipe Co., Ltd.
Tianjin Shuangjie Steel Pipe Co., Ltd.
Tianjin Vision International Trading Co., Ltd.
Tianjin Xingyuda Import and Export Co., Ltd.
Tianjin Xingyunda Steel Pipe Co., Ltd.
Tianjin Yayi Industrial Co., Ltd.
Translink Shipping, Inc.
Weifang East Steel Pipe Co., Ltd.
Wisco And Crm Wuhan Materials & Trading Co., Ltd.
Wuhan Bosen Trade Co., Ltd.
Wuxi Eric Steel Pipe Co., Ltd.
Wuxi Fastube Industry Co., Ltd.
Wuxi Marca International Imports And Exports
Xuzhou Global Pipe & Fitting Manufacturing Co., Ltd.
Xuzhou Guang Huan Steel Tube Products Co., Ltd.
Xuzhou Yongsheng Pipe & Fitting Co., Ltd.
Yangzhou Lontrin Steel Tube Co., Ltd.
Zhangjiagang Hengchang Welding Materials Co., Ltd.
Zhangjiangang Zhongyuan Pipe-Making Co., Ltd.
Zhejiang Kingland Pipeline Industry Co., Ltd.
Zhejiang Machinery & Equipment Import & Export Co., Ltd.
THE PEOPLE'S REPUBLIC OF CHINA: Tapered Roller Bearings,⁸ A-570-601 | 6/1/17-5/31/18
Zhejiang Jingli Bearing Technology Co., Ltd.
THE PEOPLE'S REPUBLIC OF CHINA: Xanthan Gum, A-570-985 | 7/1/17-6/30/18
A.H.A. International Co., Ltd.
CP Kelco (Shandong) Biological Company Limited
Deosen Biochemical (Ordos), Ltd.
Deosen Biochemical Ltd.
Hebei Xinhe Biochemical Co. Ltd.
Inner Mongolia Fufeng Biotechnologies Co., Ltd.
Inner Mongolia Jianlong Biochemical Co., Ltd.
Jianlong Biotechnology Co., Ltd.
Langfang Meihua Bio-Technology Co., Ltd.
Meihua Group International Trading (Hong Kong) Limited
Neimenggu Fufeng Biotechnologies Co., Ltd.
Shandong Fufeng Fermentation Co., Ltd.
Shanghai Smart Chemicals Co. Ltd.
Xinjiang Fufeng Biotechnologies Co., Ltd.
Xinjiang Meihua Amino Acid Co., Ltd.
TURKEY: Steel Concrete Reinforcing Bar, A-489-829 | 3/7/17-6/30/18
Icdas Celik Enerji Tersane ve Ulasim Sanayi A.S.
Colakoglu Dis Ticaret A.S.
Colakoglu Metalurji A.S.
Habas Sinai ve Tibbi Gazlar Istihsal Endustrisi A.S.
Kaptan Demir Celik Endustrisi ve Ticaret A.S.
Kaptan Metal Dis Ticaret ve Nakliyat A.S.
Countervailing Duty Proceedings
INDIA: Corrosion-Resistant Steel Products, C-533-864 | 1/1/17-12/31/17
Uttam Galva Steels Limited
INDIA: Polyethylene Terephthalate (Pet) Film, Sheet and Strip, C-533-825 | 1/1/17-12/31/17
Ester Industries Limited
Garware Polyester Ltd.
Jindal Poly Films, Ltd
MTZ Polyesters Ltd.
Polyplex Corporation Ltd.
SRF Limited
Uflex Ltd.
Vacmet India Limited
ITALY: Certain Pasta, C-475-819 | 1/1/17-12/31/17
G.R.A.M.M. S.r.l.
Industria Alimentare Colavita, S.p.A.
Tesa SrL
REPUBLIC OF KOREA: Certain Corrosion-Resistant Steel Products, C-580-879 | 1/1/17-12/31/17
Bukook Steel Co., Ltd.
CJ Korea Express
DK Dongshin Co., Ltd.
Dongbu Steel Co., Ltd.
Dongbu Incheon Steel Co., Ltd.
Dongbu Express
Dongkuk Steel Mill Co., Ltd.
Hongyi (HK) Hardware Products Co., Ltd.
Hyundai Glovis Co., Ltd.
Hyundai Steel Company
Jeil Sanup Co., Ltd.
Mitsubishi International Corp.
POSCO
POSCO C&C
POSCO Daewoo Corp.
POSCO P&S
Sejung Shipping Co., Ltd.
SeAH Steel
Seil Steel Co., Ltd.
SK Networks Co., Ltd.
Soon Hong Trading Co., Ltd.
Taisan Construction Co., Ltd.
TCC Steel Co., Ltd.
Union Steel Manufacturing Co., Ltd.
Young Sun Steel Co.
SOCIALIST REPUBLIC OF VIETNAM: Certain Steel Nails, C-552-819 | 1/1/17-12/31/17
Airlift Trans Oceanic PVT LTD.
CS Song Thuy
Jinhai Hardware Co., Ltd.
Le Phoung Trading Import Export
Long Nguyen Trading & Service Co., Ltd.
Orient Express Container Co., Ltd.
Region Industries Co., Ltd.
Rich State Inc.
Sam Hwan Vina Co., Ltd.
Thai Bao Im-Ex Corporation
Truong Vingh Ltd.
United Nail Products Co. Ltd.
THE PEOPLE'S REPUBLIC OF CHINA: Certain Oil Country Tubular Goods,⁹ C-570-944 | 1/1/17-12/31/17
Yangzhou Shengde Crafts Co., Ltd
THE PEOPLE'S REPUBLIC OF CHINA: Circular Welded Carbon Quality Steel Pipe, C-570-911 | 1/1/17-12/31/17
A&T Industry Co., Ltd.
Allied Transport System Inc.
AM Global Shipping Lines
Ample Star Enterprises
Apex Maritime (Tianjin) Co., Ltd.
Artson Fuzhou Co., Ltd.
Baoshan Iron & Steel Co., Ltd.
Bazhou Dongsheng Hot-Dipped Galvanzied Steel Pipe Co., Ltd.
Bazhou Zhuofa Steel Pipe Co. Ltd.
Beijing Bell Plumbing Manufacturing Ltd
Beijing Jia Mei Ao Trade Co., Ltd.
Beijing Jinghua Global Trading Co.
Beijing Jinghua Shunqui Trading Co., Ltd.
Beijing Kaishengao Import & Export
Beijing Kang Jie Kong International Cargo Agent Co., Ltd.
Beijing Sai Lin Ke Hardware Co., Ltd.
Beijing Zhongxingtong Technology Company Limted
Benxi Northern Pipes Co., Ltd.
Benxi Northern Steel Pipes, Co. Ltd.
Bestar Steel Co., Ltd.
Cangzhou Huasheng Modern Casting Company Limited
Chaoteng Group Ltd.
CI Consolidators Services Limited
CNOOC Kingland Pipeline Co., Ltd.
Dalian Brollo Steel Tubes Ltd.
Dalian Shipbuilding Import Export Company
DSC Quanzhou Dongshan Machine Co., Ltd.
ETCO (China) International Trading Co., Ltd.
Etco International Trading Co., Ltd.
Feel Light Co., Ltd.
Giant-Move Equipment Co., Ltd.
Guangdong Walsall Steel Pipe Industrial Co., Ltd.
Guangzhou Juyi Steel Pipe Co., Ltd
Hainan Standard Stone Company Ltd.
Hangzhou Chaoteng International
Hangzhou Shunlan Trading Company Limited
Hebei Machinery Import & Export Co., Ltd.
Hebei Metals & Engineering Products Co., Ltd.
Hefei Ziking Steel Pipe Co., Ltd.
Hengshui Jinghua Steel Pipe Co., Ltd.
Hengyang Valin Steel Tube Group Trading Co. Ltd.
Herede Engineering Ltd.
Hubei Xin Yegang Special Tube Co.
Huluado City Steel Pipe Industrial Co., Ltd.
Hunan Henyang Steel Tube (Group) Co., Ltd.
Jiangsu Changbao Steel Tube Co., Ltd.
Jiangsu Guoqiang Zinc-Plating Industrial Company, Ltd.
Jiangsu Hen-Yuan Garden Supplies Company Ltd.
Jiangsu Yulong Steel Pipe Co., Ltd.
Jiangsu Zhongheng Dyeing & Finishing Co., Ltd.
Jiangyin Jianye Metal Products Co., Ltd.
Jinan Meide Casting Co. Ltd.
Jinan Meide Piping Technology Company Ltd.
Kun Shan Sandia Special Steel Pipe Co., Ltd.
Kushan City Yuan Han Electronic Co., Ltd.
Kushan Lets Win Steel Machinery Co., Ltd.
Kushan Taiheiyo Precision Machinery Co., Ltd.
LF Logistics (China) Co., Ltd.
Lianji Chemical Industry Co Limited
Liaoning Northern Steel Pipe Co., Ltd.
Longyou Yilaida Electric Appliance Co., Ltd.
Myriad Treasure Trading Co., Ltd.
Nb Bedding & Living Company Limited
Ningbo Acei Screw Plug Inc.
Ningbo Haishu Jiayong Xingyo Import & Export Co., Ltd.
Ningbo Sunny Foreign Trade Co., Ltd.
Orient Express Container Co., Ltd.
Pacific Star Express Corporation
Pangang Chengdu Group Iron & Steel Co., Ltd.
Panyu Chu Kong Steel Pipe Co., Ltd.
Pudong Prime International Company Limited
Qingdao Ocean Master Steel & Plastic Co., Ltd.
Qingdao Xiangxing Steel Pipe Co., Ltd.
Qingdao Yongjie Import & Export Co., Ltd.
Ritime Group Inc.
Rizhao Xingye Import & Export Co., Ltd.
Rogers Corporation
Shandong Liancheng Auto Parts Company
Shandong Xinyuan Group Co., Ltd.
Shanghai Freeland International Trading Co. Ltd.
Shanghai Golden Bridge Int'l Logistic Co., Ltd.
Shanghai ITPC Import & Export Co. Ltd.
Shanghai Metals & Minerals Import & Export Corporation
Shanghai Pudong International Transporation
Shanghai Wor-Biz Trading Co., Ltd.
Shanghai Zhongyou TIPO Steel Pipe Co., Ltd.
Shaoxing Xinyue Trade Co., Ltd.
Shenyang Boyu M/E Co., Ltd Boyu M/E Company Limited
Shenyang Machinery Import & Export Co., Ltd.
Shijiazhuang Zhongqing Imp & Exp Co., Ltd.
Sichuan Y&J Industries Company Limited
Spat Steel International Hong Kong Limited
Suzhou Hongsheng Lighting Products Co. Ltd.
Tangshan Fengnan District Xinlida Steel Pipe Co., Ltd.
The Huludao Steel Tube Industry Co., Ltd.
Tianjin Baolai International Trade Co., Ltd.
Tianjin Haoyou Industry Trade Co., Ltd.
Tianjin Hongshengxiang Paper Company
Tianjin Lifengyuanda Steel Group Co. Ltd.
Tianjin Lituo Steel Products Co., Ltd.
Tianjin Longshenghua Import & Export
Tianjin No. 1 Steel Rolled Co., Ltd.
Tianjin Pipe International Economic & Trading Corporation
Tianjin Ruitong Steel Co., Ltd.
Tianjin Shenzhoutong Steel Pipe Co., Ltd.
Tianjin Shuangjie Steel Pipe Co., Ltd.
Tianjin Vision International Trading Co., Ltd.
Tianjin Xingyuda Import and Export Co., Ltd.
Tianjin Xingyunda Steel Pipe Co., Ltd.
Tianjin Yayi Industrial Co., Ltd.
Translink Shipping, Inc.
Weifang East Steel Pipe Co., Ltd.
WISCO & CRM Wuhan Materials & Trading Co., Ltd.
Wuhan Bosen Trade Co., Ltd.
Wuxi Eric Steel Pipe Co., Ltd.
Wuxi Fastube Industry Co., Ltd.
Wuxi Marca International Imports and Exports
Xuzhou Global Pipe & Fitting Manufacturing Co., Ltd.
Xuzhou Guang Huan Steel Tube Products Co., Ltd.
Xuzhou Yongsheng Pipe & Fitting Co., Ltd.
Yangzhou Lontrin Steel Tube Co., Ltd.
Zhangjiagang Hengchang Welding Materials Co., Ltd.
Zhangjiangang Zhongyuan Pip-Making Co., Ltd.
Zhejiang Kingland Pipeline Industry Co., Ltd.
Zhejiang Machinery & Equipment Import & Export Co., Ltd.
TURKEY: Steel Concrete Reinforcing Bar, C-489-830 | 3/1/17-12/31/17
Habas Sinai ve Tibbi Gazlar Istihsal Endustrisi A.S.

Suspension Agreements

None.

⁴ The name of the company listed above was misspelled in the initiation notice that published on July 12, 2018 (83 FR 32270). The correct spelling of the company name is listed in this notice.

⁵ Excluded from the order are certain steel nails from Korea both produced and exported by any combinations of the following: Jinheung Steel Corporation, Jinsco International Corporation, and Duo-Fast Korea Co., Ltd. See Certain Steel Nails from the Republic of Korea, Malaysia, the Sultanate of Oman, Taiwan, and the Socialist Republic of Vietnam: Antidumping Duty Order, 80 FR 39994 (July 13, 2015). Accordingly, we are initiating this administrative review with respect to certain steel nails (1) produced by Jinheung Steel Corporation, Jinsco International Corporation, or Duo-Fast Korea Co., Ltd., and exported by any other company other than these three companies, or (2) produced by any other company other than these three companies and exported by Jinheung Steel Corporation, Jinsco International Corporation, or Duo-Fast Korea Co., Ltd.

⁶ Id.

⁷ Id.

⁸ The name of the company listed above was misspelled in the initiation notice that published on August 10, 2018 (83 FR 39688). The correct spelling of the company name is listed in this notice.

⁹ The company name listed above was inadvertently omitted from the initiation notice that published on March 16, 2018 (83 FR 11685).

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.¹⁰ Parties are hereby reminded that revised certification requirements are in effect for company/government officials as well as their representatives. All segments of any antidumping duty or countervailing duty proceedings initiated on or after August 16, 2013, should use the formats for the revised certifications provided at the end of the Final Rule.¹¹ Commerce intends to reject factual submissions in any proceeding segments if the submitting party does not comply with applicable revised certification requirements.

¹⁰ See section 782(b) of the Act.

¹¹ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: September 4, 2018.
James Maeder,
Associate Deputy Assistant Secretary for Antidumping and Countervailing Duty Operations performing the duties of Deputy Assistant Secretary for Antidumping and Countervailing Duty Operations.

[FR Doc. 2018-19570 Filed 9-7-18; 8:45 am]

BILLING CODE 3510-DS-P